DEPARTMENT OF HOUSING AND URBAN DEVELOPMENT

[FR-6452-N-01]

Exhibitors Sought for Innovative Housing Showcase 2024

AGENCY: Office of the Assistant Secretary for Policy Development and Research, Department of Housing and Urban Development (HUD).

ACTION: Notice.

SUMMARY: HUD, in collaboration with other organizations, will present the Innovative Housing Showcase in June 2024 on the National Mall in Washington, DC. The Innovative Housing Showcase (Showcase) is a public event to raise awareness of innovative housing designs and technologies that have the potential to increase housing supply, lower the cost of construction, and/or reduce housing expenses for owners and renters. HUD is especially interested in innovative housing designs and technologies that, in addition to reducing costs and expenses for builders, owners and renters, can expand quality, affordable, accessible and healthy housing options for low- and moderate-income households; support aging in place; improve climate mitigation and resilience and disaster recovery; and/or increase energy efficiency and support decarbonization in the housing sector. HUD is seeking exhibitors to showcase innovations, and this notice solicits proposals for the Innovative Housing Showcase, with a preference for full-scale housing models and technology demonstrations that the public can tour and interact with.

DATES: All proposals must be received no later than March 29, 2024. Proposals will be accepted and reviewed on a rolling basis until March 29, 2024, or until HUD reaches capacity for exhibitor space on the National Mall, whichever comes sooner. HUD encourages early submission of proposals.

ADDRESSES: Proposals must be in writing and submitted via email to housingshowcase@hud.gov. Individuals who do not have internet access may submit proposals to the Office of Policy Development and Research, Affordable Housing Research and Technology, U.S. Department of Housing and Urban Development, 451 7th Street SW, Room 8134, Washington, DC 20410.

FOR FURTHER INFORMATION CONTACT: Michael Blanford, Research Engineer, U.S. Department of Housing and Urban Development, Office of Policy Development and Research, 451 7th St. SW, Washington, DC 20410, telephone number 202-402-5728 (this is not a toll-free number). HUD welcomes and is prepared to receive calls from individuals who are deaf or hard of hearing, as well as individuals with speech and communication disabilities. To learn more about how to make an accessible telephone call, please visit: https://www.fcc.gov/consumers/guides/telecommunications-relay-service-trs. Individuals with questions may also email housingshowcase@hud.gov and in the subject line write “2024 Showcase Questions.”

SUPPLEMENTARY INFORMATION:

I. Background

This year will be the fourth time HUD has hosted the Showcase on the National Mall, having done so in 2019, 2022, and 2023. Prior Showcases were attended by several thousand members of the public, as well as housing practitioners and government leaders, and received coverage in both popular media and trade press. Given HUD's mission to create “quality, affordable homes for all,” this event offers a unique opportunity to highlight innovative housing designs and technologies that can improve quality and deepen affordability for leaders in the housing sector, from policymakers and planners to funders, architects, and builders.

The National Mall is a landscaped park that is always open to the public, which brings certain expectations when presenting housing innovations on a large scale. Exhibitors are responsible for complying with all National Park Service (NPS) rules and regulations as identified in the NPS Event Planning Guide (https://www.nps.gov/nama/learn/management/event-planning-guide.htm). As the National Mall is part of the National Park System, there is no review or permit required to meet building codes within the District of Columbia (DC); however, the NPS may require a review by the NPS Lift Safety and Compliance office.

Approach to the National Mall involves DC streets or interstate highways, local and federal restrictions pertaining to weight, and compliance with width of load and height restrictions. There are two primary DC routes approaching the National Mall that can accommodate 13′6″ clearance. The Showcase Management team will advance the arrival and departure routes as well as the set-up and tear-down schedule to each exhibitor.

II. Showcase Information and Exhibit Requirements

Showcase management is overseen by HUD and HUD-designated entities responsible for Showcase planning and event logistics. The Innovative Housing Showcase host exhibits in three primary categories:

—Tabletop Displays—these displays are typically housed in an individual tent or space within a larger tent.

—On-Ground Exhibit—these displays may showcase a particular technology or method of construction within the given footprint that is too large for a tabletop and cannot be entered.

—Enterable Exhibit—these displays may involve a structure that showcases a technology or method of construction that can be entered by the public present at the showcase site.

Each exhibit shall be positioned and equipped to allow persons who have mobility restrictions to approach the threshold of an enterable exhibit. The Showcase Management team will provide a list of contractors that are prepared to provide ADA compliant ramps for Enterable exhibits.

The Showcase Management team will review the public-facing branding of each exhibit and can provide advice and direction to remain compliant with the NPS guidelines.

Exhibits must be presented in a manner that can sustain a 30-mph wind and should not exceed 45′ in height. HUD will make available the use of a crane or forklifts for installation. Typically, the crane provided has a 20-ton capacity and will be apportioned to accommodate the needs of all exhibitors. Exhibits that exceed 400 sq ft will require the NPS review of floor plans and engineering to establish an occupancy load as well as any ballast that may be required to satisfy the wind load guidelines.

Exhibits will be delivered by truck and placed on the gravel walkways of the National Mall. To maintain adequate pathways for the public to traverse between monuments and museums adjacent to the event site, exhibit areas are apportioned based on individual footprints. Exhibits including outdoor space and handicap accessibility shall not exceed 30′ in depth and are generally 60′ to 80′ in width.

For each exhibit type, HUD provides a standard tent with side walls, tables, and chairs as well as a sign identifying the Exhibitor. The sign includes the exhibitor's brand and features the event brand consistent with the NPS guidelines. The Showcase Management team will also provide electricity for each exhibit whether Tabletop, On-Ground or Enterable.

Exhibitors are responsible for their own expenses, personnel, and resources. Exhibitors will bear the cost to manufacture the exhibit, deliver and remove the exhibit from the Showcase Site, and staff the exhibit during the run of show. HUD will not provide any funding to exhibitors. HUD will provide support to manage the event.

III. Proposals, Proposal Submission, and Exhibitor Selection Information

HUD seeks housing designs and technologies that have the potential to increase supply and lower the cost of construction, and/or reduce housing expenses for owners and renters. This could include designs that reduce building footprints, like Accessory Dwelling Units and multi-unit manufactured and modular housing, or that impact on-site construction efficiency, like three-dimensional (3D) printing and panelization. HUD is especially interested in innovative housing designs and technologies that, in addition to reducing costs and expenses for builders, owners and renters, can expand quality, affordable, accessible and healthy housing options for low- and moderate-income households; support aging in place; improve climate mitigation and resilience and disaster recovery; and/or increase energy efficiency and support decarbonization in the housing sector. Potential exhibits could range from tabletop displays to on-ground exhibits to enterable homes.

Interested potential exhibitors should submit via the methods discussed previously in this notice and include responses to the following:

1. Exhibitor name.

2. Exhibit category: tabletop display, on-ground exhibit, or enterable.

3. A short narrative description of the exhibit including attributes that make it appropriate for the Showcase, specifically how the product advances the goals listed above.

a. If proposing an enterable exhibit, a short narrative description of any accessibility features.

4. A photo or rendering of your exhibit, including links to websites and videos (if available).

5. Description of the installation process on the Mall, including essential specifications.

6. Transportation requirements, including need for special road clearances for oversize/overweight loads.

7. Description of previous exhibits or demonstrations of the product (this could include home shows and other exhibits).

8. Any other substantial partners involved in the proposed exhibit.

9. Contact information for the exhibitor (with the authority to commit).

Responses should be limited to 1-2 pages.

In accordance with the Paperwork Reduction Act of 1995, an agency may not conduct or sponsor, and a person is not required to respond to, a collection of information, unless the collection displays a currently valid OMB control number. The information collection described above to collect proposals for the Showcase has been approved by the Office of Management and Budget (OMB) under the Paperwork Reduction Act of 1995 (44 U.S.C. 3501-3520) and assigned OMB control number 2528-0346.

HUD will select exhibit proposals that align with the above themes and areas of focus, particularly housing affordability, quality, accessibility, decarbonization and resilience, as well as other considerations such as novelty and overall composition of submitted responses. For the sake of visitor engagement, we will prioritize exhibits that can be displayed in person and that are enterable or are otherwise feature visually interesting and interactive presentations. Other factors that may impact exhibitor selection include National Mall site limitations and potential expense to HUD (e.g., crane time).

Todd M. Richardson,
General Deputy Assistant Secretary for Policy Development and Research.

[FR Doc. 2024-04146 Filed 2-27-24; 8:45 am]

BILLING CODE 4210-67-P